DEPARTMENT OF HOUSING AND URBAN DEVELOPMENT

[Docket No. FR-5907-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov .

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AGRICULTURE: Ms. Debra Kerr, Department of Agriculture, OPPM, Property Management Division, Agriculture South Building, 300 7th Street SW., Washington, DC 20024, (202) 720-8873; AIR FORCE: Mr. Robert E. Moriarty, P.E., AFCEC/CI, 2261 Hughes Avenue, Ste. 155, JBSA Lackland TX 78236-9853, (315) 225-7384; COE: Ms. Brenda Johnson-Turner, HQUSACE/CEMP-CR, 441 G Street NW., Washington, DC 20314, (202) 761-7238; COAST GUARD: Jeffrey R. Barlow, Real Property Specialist, Department of Homeland Security, HQ USCG, CG-437, (202) 475-5609; GSA: Mr. Flavio Peres, General Services Administration, Office of Real Property Utilization and Disposal, 1800 F Street NW., Room 7040 Washington, DC 20405, (202) 501-0084; NAVY: Ms. Nikki Hunt, Department of the Navy, Asset Management Division, Naval Facilities Engineering Command, Washington Navy Yard, 1330 Patterson Ave. SW., Suite 1000, Washington, DC 20374; (202) 685-9426 (These are not toll-free numbers).

Dated: November 22, 2016.
Brian P. Fitzmaurice,
Director, Division of Community Assistance, Office of Special Needs Assistance Programs.

TITLE V, FEDERAL SURPLUS PROPERTY PROGRAM FEDERAL REGISTER REPORT FOR 12/02/2016

Suitable/Available Properties

Building

Nebraska

Gremlin Park Shelter House

#30007 HARLAN-29039

70788 Corps Rd. A

Republican City NE 68971

Landholding Agency: COE

Property Number: 31201640015

Status: Excess

Comments: 1,620 sq. ft.; 66+ yrs. old; recreation for day use; fair conditions; contact COE for more details on conditions.

West Virginia

Parkersburg Federal Building

425 Juliana Street

Parkersburg WV 26101

Landholding Agency: GSA

Property Number: 54201640005

Status: Excess

GSA Number: 4-G-WV-0564

Comments: 104,870 total usable sf.; office and courthouse; 2+ yrs.-old vacant; asbestos present but contained; may be subject to historic preservation covenants; contact GSA for more details on property.

Unsuitable Properties

Building

California

Love Valley

2401 Love Valley Barn

Palomar Mountain CA

Landholding Agency: Agriculture

Property Number: 15201640014

Status: Unutilized

Comments: documented deficiencies: structurally unsound; wall fallen down; roof collapsing; clear threat to physical safety.

Reasons: Extensive deterioration

Florida

2 Buildings

Eglin AFB

Eglin FL 32542

Landholding Agency: Air Force

Property Number: 18201640034

Status: Unutilized

Directions: 9370; 9376

Comments: public access denied and no alternative method to gain access without compromising national security.

Reasons: Secured Area

Building 385

Naval Support Activity Panama City

Panama City FL 32407

Landholding Agency: Navy

Property Number: 77201640007

Status: Unutilized

Comments: public access denied & no alternative method to gain access without compromising national security.

Reasons: Secured Area

Kansas

5 Buildings

10419 Perry Park Drive

Perry KS 66073

Landholding Agency: COE

Property Number: 31201640012

Status: Unutilized

Directions: Perry-44493, Acct/Better# 56043; Perry-44475, Acct/Better# 56042; Perry-39678, Acct/Better# 56041; Perry-39677, Acct/Better #56040; Perry-39676, Acct/Better #56039

Comments: property located within floodway which has not been correct or contained.

Reasons: Floodway

8 Buildings

10419 Perry Park Drive

Perry KS 66073

Landholding Agency: COE

Property Number: 31201640013

Status: Unutilized

Directions: Perry-29552, Acct/Better#56017, Perry-29459, Acct/Better#56001; Perry-39668, Acct/Better#48025; Perry-29451, Acct/Better#48003; Perry-29433, Acct/Better#25008; Perry-29427, Acct/Better#25002; Perry-29554, Acct/Better#16009; Perry-29414, Acct/Better#16001

Comments: property located within floodway which has not been correct of contained.

Reasons: Floodway

Contractor Storage Shed

Venango Park #61014, KNPOLS-28154

105 Riverside Drive

Marquette KS 67464

Landholding Agency: COE

Property Number: 31201640014

Status: Unutilized

Comments: property located within floodway which has not been correct of contained.

Reasons: Floodway

Otoe Park Shower/Latrine

#L50018 WILSON-29263

4860 Outlet Blvd.

Sylvan Grove KS 67481

Landholding Agency: COE

Property Number: 31201640016

Status: Excess

Comments: property located within floodway which has not been correct of contained.

Reasons: Floodway

Kentucky

Markland Lock and Dam

Radio Shack at Lock & Dam Area

2760 US 42 West

Warsaw KY 41095

Landholding Agency: COE

Property Number: 31201640011

Status: Excess

Comments: public access denied & no alternative method to gain access with compromising national security; documented deficiencies: roof sagging; structurally unsound.

Reasons: Extensive deterioration; Secured Area

Mississippi

Facility No. F-Public Restroom

Naval Construction Battalion Center

Pascagoula MS 39581

Landholding Agency: Navy

Property Number: 77201640006

Status: Unutilized

Comments: public access denied & no alternative method to gain access without compromising National Security; documented deficiencies: portion of the roof deck has collapsed.

Reasons: Secured Area; Extensive deterioration

Pennsylvania

Organizational Storage Bldg.

3500 Grand Avenue

Pittsburgh PA 15225

Landholding Agency: COE

Property Number: 31201640018

Status: Underutilized

Directions: PEWARS-23749

Comments: public access denied and no alternative method to gain access without compromising national security.

Reasons: Secured Area

Virginia

Family Housing Unit (H049)

49 Millpoint Road

Hudgins VA 23079

Landholding Agency: Coast Guard

Property Number: 88201640001

Status: Excess

Directions: (67243) Single at Coast Guard Station Milford

Comments: Public access denied and no alternative method to gain access without compromising National Security.

Reasons: Secured Area

[FR Doc. 2016-28592 Filed 12-1-16; 8:45 am]

BILLING CODE 4210-67-P